DEPARTMENT OF ENERGY

Federal Energy Regulatory Commission

[Docket No. ER02-324-000, et al.]

Entergy Services, Inc., et al.; Electric Rate and Corporate Regulation Filings

November 19, 2001.

Take notice that the following filings have been made with the Commission:

1. Entergy Services, Inc.

[Docket No. ER02-324-000]

Take notice that on November 14, 2001, Entergy Services, Inc., on behalf of Entergy Gulf States, Inc., tendered for filing with the Federal Energy Regulatory Commission (Commission) an unexecuted Interconnection and Operating Agreement with Amelia Energy Center, LP (Calpine), and a Generator Imbalance Agreement with Calpine. Calpine objects to the fact that the Calpine Interconnection Agreement does not provide transmission credits in return for Calpine's payments for the interconnection facilities necessary for the physical interconnection of the Calpine Facility to Entergy's transmission system.

Comment date: December 5, 2001, in accordance with Standard Paragraph E at the end of this notice.

2. Midwest Independent Transmission System Operator Inc.

[Docket No. ER02-325-000]

Take notice that on November 14, 2001, the Midwest Independent Transmission System Operator, Inc. filed with the Federal Energy Regulatory Commission (Commission) an executed Coordination Agreement By and Between Midwest Independent Transmission System Operator Inc. and Manitoba Hydro.

Comment date: December 5, 2001, in accordance with Standard Paragraph E at the end of this notice.

3. Indianapolis Power & Light Company

[Docket No. ER02-326-000]

Take notice that on November 14, 2001, Indianapolis Power & Light Company filed with the Federal Energy Regulatory Commission (Commission) a Service Agreement for Firm Point-to-Point Transmission Service between Indianapolis Power & Light Company and Exelon Generation Company, LLC, under its open access transmission tariff in the above-captioned proceeding.

Comment date: December 5, 2001, in accordance with Standard Paragraph E at the end of this notice.

4. Indianapolis Power & Light Company

[Docket No.ER02-327-000]

Take notice that on November 14, 2001, Indianapolis Power & Light Company filed with the Federal Energy Regulatory Commission (Commission) a Service Agreement for Firm Point-to-Point Transmission Service between Indianapolis Power & Light Company and Calpine Energy Services, L.P., under its open access transmission tariff in the above-captioned proceeding.

Comment date: December 5, 2001, in accordance with Standard Paragraph E at the end of this notice.

5. Indianapolis Power & Light Company

[Docket No. ER02-328-000]

Take notice that on November 14, 2001, Indianapolis Power & Light Company filed with the Federal Energy Regulatory Commission (Commission) a Service Agreement for Non-Firm Point-to-Point Transmission Service between Indianapolis Power & Light Company and Calpine Energy Services, L.P., under its open access transmission tariff in the above-captioned proceeding.

Comment date: December 5, 2001, in accordance with Standard Paragraph E at the end of this notice.

6. Indianapolis Power & Light Company

[Docket No. ER02-329-000]

Take notice that on November 14, 2001, Indianapolis Power & Light Company filed with the Federal Energy Regulatory Commission (Commission) a Service Agreement for Non-Firm Point-to-Point Transmission Service between Indianapolis Power & Light Company and Exelon Generation Company, LLC, under its open access transmission tariff in the above-captioned proceeding.

Comment date: December 5, 2001, in accordance with Standard Paragraph E at the end of this notice.

7. Alliant Energy Corporate Services, Inc.

[Docket No. ER02-330-000]

Take notice that on November 14, 2001, the Alliant Energy Corporate Services, Inc. tendered for filing with the Federal Energy Regulatory Commission (Commission) a proposed Notice of Cancellation with Narrative Statement and revisions to Alliant Energy Corporate Services, Inc.'s Open Access Transmission Tariff (OATT), FERC Electric Tariff, First Revised Volume No. 1.

Alliant Energy Corporate Services, Inc. states that its proposed revisions are intended to cancel the Forms of Service Agreement for Firm Point-to-Point Transmission Service, Non-Firm Point-to-Point Transmission Service and Network Transmission Service as well as certain transmission-related services with respect thereto, which will no longer be necessary once the Midwest Independent Transmission System Operator, Inc. commences operations on December 15, 2001.

Alliant Energy Corporate Services, Inc. states that it has served copies of its filing by placing a copy of same in the United States mail, first-class postage prepaid.

Comment date: December 5, 2001, in accordance with Standard Paragraph E at the end of this notice.

8. American Transmission Company LLC

[Docket No. ER02-331-000]

Take notice that on November 15, 2001, American Transmission Company LLC (ATCLLC) tendered for filing with the Federal Energy Regulatory Commission (Commission) an executed Distribution-Transmission Interconnection Agreement between ATCLLC and Adams-Columbia Electric Cooperative.

ATCLLC requests an effective date of June 29, 2001.

Comment date: December 6, 2001, in accordance with Standard Paragraph E at the end of this notice.

9. Mountain View Power Partners, LLC

[Docket No. ER02-332-000]

Take notice that on November 15, 2001, Mountain View Power Partners, LLC (Mountain View) filed with the Federal Energy Regulatory Commission (Commission) a Master Agreement (the Master Agreement) and a Confirmation entered into thereunder (collectively, the Agreement) for power sales with its affiliate, PG&E Energy Trading-Power, L.P. (PGET) as required by the Commission in its letter Order of February 9, 2001. See Mountain View Power Partners, LLC, Docket No. ER01-1336-000 (delegated letter order issued February 9, 2001) (section 205 Letter Order). The Agreement commits Mountain View to sell capacity, energy and ancillary services to PGET at market-based rates according to its FERC Electric Tariff No. 1. Mountain View also submits for filing a notice of cancellation of the Confirmation pursuant to section 35.15(c) of the Commission's regulations.

Comment date: December 6, 2001, in accordance with Standard Paragraph E at the end of this notice.

10. California Independent System Operator Corporation

[Docket No. ER02-333-000]

Take notice that on November 15, 2001, the California Independent System Operator Corporation (ISO) tendered for filing with the Federal Energy Regulatory Commission (Commission) a notice concerning the termination of the Meter Service Agreement for Scheduling Coordinators between the ISO and Illinova Energy Partners, Inc. The ISO states that it has served copies of this filing on all entities that are on the official service list for Docket No. ER98-1855.

The ISO requests that the agreement be terminated as of April 30, 2001.

Comment date: December 6, 2001, in accordance with Standard Paragraph E at the end of this notice.

11. California Independent System Operator Corporation

[Docket No. ER02-334-000]

Take notice that the California Independent System Operator Corporation, (ISO) on November 15, 2001, tendered for filing with the Federal Energy Regulatory Commission (Commission) a Meter Service Agreement for ISO Metered Entities between the ISO and Jefferson Smurfit Corporation for acceptance by the Commission. The ISO states that this filing has been served on Jefferson Smurfit Corporation the California Public Utilities Commission.

The ISO is requesting waiver of the 60-day notice requirement to allow the Meter Service Agreement for ISO Metered Entities to be made effective October 30, 2001.

Comment date: December 6, 2001, in accordance with Standard Paragraph E at the end of this notice.

12. California Independent System Operator Corporation

[Docket No. ER02-335-000]

Take notice that on November 15, 2001, the California Independent System Operator Corporation, (ISO) tendered for filing with the Federal Energy Regulatory Commission (Commission) a Participating Generator Agreement between the ISO and Jefferson Smurfit Corporation for acceptance by the Commission. The ISO states that this filing has been served on Jefferson Smurfit Corporation and the California Public Utilities Commission.

The ISO is requesting waiver of the 60-day notice requirement to allow the Participating Generator Agreement to be made effective October 30, 2001.

Comment date: December 6, 2001, in accordance with Standard Paragraph E at the end of this notice.

13. Combined Locks Energy Center, LLC

[Docket No. ER02-336-000]

Take notice that on November 15, 2001, Combined Locks Energy Center, L.L.C. (CLEC), filed with the Federal Energy Regulatory Commission (Commission) a non-redacted, confidential copy and a redacted, non-confidential copy of a long-term power purchase agreement (PPA) with Consolidated Water Power Company. CLEC requests that the PPA become effective November 1, 2001, the commercial operation date of the facility.

Copies of the filing were served upon the public utility's jurisdictional customers, and the Public Service Commission of Wisconsin.

Comment date: December 6, 2001, in accordance with Standard Paragraph E at the end of this notice.

14. Minnesota Power

[Docket No. ER02-337-000]

Take notice that on November 14, 2001, the Minnesota Power (MP) tendered for filing with the Federal Energy Regulatory Commission (Commission) a proposed Notice of Cancellation with Narrative Statement and revisions to Minnesota Power's Open Access Transmission Tariff (OATT), FERC Electric Tariff, First Revised Volume No. 6.

Minnesota Power states that its proposed revisions are intended to cancel the Forms of Service Agreement for Firm Point-to-Point Transmission Service, Non-Firm Point-to-Point Transmission Service and Network Transmission Service as well as certain transmission-related services with respect to thereto, which will no longer be necessary once the Midwest Independent Transmission System Operator, Inc. commences operations on December 15, 2001.

Minnesota Power states that it has served copies of its filing by placing a copy of same in the United States mail, first-class postage or via electronic service.

Comment date: December 5, 2001, in accordance with Standard Paragraph E at the end of this notice.

15. Portland General Electric Company

[Docket No. ER02-338-000]

Take notice that on November 14, 2001, Portland General Electric Company (PGE) filed revised tariff sheets to its Open Access Transmission Tariff. The revised sheets are intended to revise PGE's Energy Imbalance provisions to require payments for imbalances based on the market price of energy.

PGE requests that the Commission make the revised tariff sheets effective as of January 15, 2002.

Comment date: December 5, 2001, in accordance with Standard Paragraph E at the end of this notice.

16. Deseret Generation & Transmission Co-operative, Inc.

[Docket No. ER02-339-000]

Take notice that on November 15, 2001, Deseret Generation & Transmission Co-operative, Inc. (Deseret) tendered for filing the Second and Third Amendments to existing First Revised Service Agreement No. 5 to Deseret's FERC Market Based Rate Tariff Volume No. 3, a long-term Power Sales Agreement between Deseret and Constellation Power Source (CPS).

Deseret respectfully requests that the Commission accept the Second and Third Amendments with an effective date of November 1, 2000 (Second Amendment) and August 1, 2001 (Third Amendment).

CPS has been provided a copy of the filing.

Comment date: December 6, 2001, in accordance with Standard Paragraph E at the end of this notice.

17. California Independent System Operator Corporation

[Docket No. ER02-340-000]

Take notice that on November 15, 2001, the California Independent System Operator Corporation (ISO) tendered for filing First Revised Service Agreement No. 412 Under ISO Rate Schedule No. 1, which is a Participating Generator Agreement (PGA) between the ISO and GWF Energy LLC. The ISO has revised the PGA to update the list of generating units listed in Schedule 1 of the PGA.

The ISO requests that the agreement be made effective as of August 29, 2001.

The ISO states that this filing has been served on all entities that are on the official service list for Docket No. ER01-2958-000.

Comment date: December 6, 2001, in accordance with Standard Paragraph E at the end of this notice.

18. Duquesne Light Company

[Docket No. ER02-341-000]

Take notice that November 15, 2001, Duquesne Light Company (DLC) filed a Service Agreement dated November 14, 2001 with Dominion Nuclear Marketing II, Inc. under DLC's Open Access Transmission Tariff (Tariff). The Service Agreement adds Dominion Nuclear Marketing II, Inc. as a customer under the Tariff.

DLC requests an effective date of November 14, 2001 for the Service Agreement.

Comment date: December 6, 2001, in accordance with Standard Paragraph E at the end of this notice.

19. Virginia Electric and Power Company

[Docket No. ER02-342-000]

Take notice that on November 15, 2001, Virginia Electric and Power Company (Dominion Virginia Power) tendered for filing an executed Generator Interconnection and Operating Agreement (Interconnection Agreement) with Industrial Power Generating Corporation (Ingenco). The Interconnection Agreement sets forth the terms and conditions governing the interconnection between Ingenco's generating facility and Dominion Virginia Power's transmission system.

Dominion Virginia Power requests that the Commission waive its notice of filing requirements and accept this filing to make the Interconnection Agreement effective on November 15, 2001.

Copies of the filing were served upon Ingenco and the Virginia State Corporation Commission.

Comment date: December 6, 2001, in accordance with Standard Paragraph E at the end of this notice.

20. Commonwealth Edison Company

[Docket No. ER02-343-000]

Take notice that on November 15, 2001 Commonwealth Edison Company (ComEd) submitted for filing with the Federal Energy Regulatory Commission (Commission) one Form of Service Agreement for Short-Term Firm Point-To-Point Transmission Service and one Form of Service Agreement for Non-Firm Point-To-Point Transmission Service (Service Agreements) between ComEd and Rainy River Energy Corporation (Rainy) under the terms of ComEd's Open Access Transmission Tariff (OATT). Copies of this filing were served on Rainy.

ComEd requests an effective date of November 1, 2001, and accordingly seeks waiver of the Commission's notice requirements.

Comment date: December 6, 2001, in accordance with Standard Paragraph E at the end of this notice.

21. American Electric Power Service Corporation

[Docket No. ER02-344-000]

Take notice that on November 15, 2001, the American Electric Power Service Corporation (AEPSC), tendered for filing with the Federal Energy Regulatory Commission (Commission) a Revised Firm Point-to-Point Transmission (PTP) Service Agreement for Virginia Power Company for a long-term PTP reservation. All of these agreements are pursuant to the AEP Companies' Open Access Transmission Service Tariff (OATT) that has been designated as the Operating Companies of the American Electric Power System FERC Electric Tariff Second Revised Volume No. 6.

AEPSC requests waiver of notice to permit the Revised Service Agreement to be made effective on and after September 30, 2001.

A copy of the filing was served upon the Parties and the state utility regulatory commissions of Arkansas, Indiana, Kentucky, Louisiana, Michigan, Ohio, Oklahoma, Tennessee, Texas, Virginia and West Virginia.

Comment date: December 6, 2001, in accordance with Standard Paragraph E at the end of this notice.

22. Duquesne Light Company

[Docket No.ER02-345-000]

Take notice that on November 15, 2001, Duquesne Light Company (DLC) filed with the Federal Energy Regulatory Commission (Commission) a Service Agreement dated November 14, 2001 with Dominion Nuclear Marketing II, Inc. under DLC's Open Access Transmission Tariff (Tariff). The Service Agreement adds Dominion Nuclear Marketing II, Inc. as a customer under the Tariff.

DLC requests an effective date of November 14, 2001 for the Service Agreement.

Comment date: December 6, 2001, in accordance with Standard Paragraph E at the end of this notice.

23. Combined Locks Energy Center, LLC

[Docket No. ER02-346-000]

Take notice that on November 15, 2001, Combined Locks Energy Center, L.L.C. (CLEC), filed with the Federal Energy Regulatory Commission (Commission) an executed service agreement with WPS Energy Services, Inc. (WPS-ESI) under CLEC's market-based rate tariff, FERC Electric Tariff, Original Volume No. 1. CLEC requests that the Commission allow the service agreement to become effective on October 17, 2001.

Copies of the filing were served upon WPS-ESI and the Public Service Commission of Wisconsin.

Comment date: December 6, 2001, in accordance with Standard Paragraph E at the end of this notice.

24. Consumers Energy Company

[Docket No. ER02-347-000]

Take notice that on November 15, 2001 Consumers Energy Company (Consumers) tendered for filing with the Federal Energy Regulatory Commission (Commission) a Service Agreement with Entergy-Koch Trading, LP, (Customer) under Consumers' FERC Electric Tariff No. 9 for Market Based Sales. Copies of the filing were served upon the Customer and the Michigan Public Service Commission.

Consumers requested that the Agreement be allowed to become effective as of October 15, 2001.

Comment date: December 6, 2001, in accordance with Standard Paragraph E at the end of this notice.

25. Arizona Independent Scheduling Administrator Association

[Docket No. ER02-348-000]

Take notice that on November 15, 2001, Arizona Independent Scheduling Administrator Association submitted a revision to its Protocols Manual to extend the commitment of the Standard Offer Scheduling Coordinators to a mechanism whereby Standard Offer Scheduling Coordinators exchange an amount, in MW, of Allocated Retail Network Transmission to Scheduling Coordinators serving competitive retail access customers.

Comment date: December 6, 2001, in accordance with Standard Paragraph E at the end of this notice.

26. Split Rock Energy LLC

[Docket No. ER02-349-000]

Take notice that on November 15, 2001, Split Rock Energy LLC submitted revised Exhibit B Pricing Methodology, Energy Transfer Pricing and Capacity Cost-Sharing Principles for Split Rock Energy LLC Between its Members: ALLETE, Inc., d/b/a Minnesota Power, and Great River Energy.

Comment date: December 6, 2001, in accordance with Standard Paragraph E at the end of this notice.

27. Central Vermont Public Service Corporation

[Docket No. ER02-350-000]

Take notice that on November 16, 2001, Central Vermont Public Service Corporation (CVPS), tendered for filing with the Federal Energy Regulatory Commission (Commission) the Forecast 2002 Cost Report required under Paragraph Q-2 on Original Sheet No. 19 of the Rate Schedule FERC No. 135 under which CVPS sells electric power to Connecticut Valley Electric Company, Inc. (Customer). CVPS states that the Cost Report reflects changes to the RS-2 rate schedule which were approved by the Commission's June 6, 1989 Order in Docket No. ER88-456-000. The Forecast 2002 Cost Report supports rates that represent a decrease of $1,983,384 for estimated non-energy costs in 2002.

Copies of the filing were served upon the Customer, the New Hampshire Public Utilities Commission, and the Vermont Public Service Board.

Comment date: December 7, 2001, in accordance with Standard Paragraph E at the end of this notice.

28. Avista Corporation, The Montana Power Company, Nevada Power Company, Portland General Electric Company, and Sierra Pacific Power Company, TransConnect, LLC

[Docket Nos. RT01-15-002 and ER02-323-000]

Take notice that on November 13, 2001, the above-captioned applicants filed with the Federal Energy Regulatory Commission (Commission) an “Application of TransConnect, LLC For Approval of Transmission Rates, Including Innovative Transmission Rate Treatment; Planning and Expansion Protocol; Compliance Filing; and Modified Governance Proposal” pursuant to section 205 of the Federal Power Act Company and part 35 of the Commission's regulations. Avista Corporation and The Montana Power Company are joining in only the planning protocol, modified governance, and compliance filing sections of the filing.

TransConnect, LLC requests preliminary approval of transmission rates that reflect the underlying transmission assets that will be transferred to TransConnect, subject to the additional approvals that must still be obtained. These rates also reflect innovative and incentive features consistent with section 35.24(e) of the Commission's regulations and the Commission's requirements under Order Nos. 2000 and 2000-A. TransConnect proposes a detailed planning and expansion protocol and has filed modifications to its governance documents to comply with the Commission's April 26, 2001 order in this proceeding. TransConnect further proposed to modify its governance to provide greater membership flexibility than currently exists.

Comment date: December 13, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29350 Filed 11-23-01; 8:45 am]

BILLING CODE 6717-01-P